DEPARTMENT OF COMMERCE

National Oceanic and Atmospheric Administration

RIN 0648-XV92

Marine Mammals; File No. 14610

AGENCY: National Marine Fisheries Service (NMFS), National Oceanic and Atmospheric Administration (NOAA), Commerce.

ACTION: Notice; issuance of permit.

SUMMARY: Notice is hereby given that the Alaska Department of Fish and Game (ADFG), Division of Wildlife Conservation, Juneau, AK (Principal Investigator: Robert Small, Ph.D.) has been issued a permit to conduct research on marine mammals.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Tammy Adams or Carrie Hubard, (301)713-2289.

SUPPLEMENTARY INFORMATION: On April 20, 2010, notice was published in the Federal Register (75 FR 20565) that a request for a permit to conduct research on beluga whales (Delphinapterus leucas), endangered bowhead whales (Balaena mysticetus), gray whales (Eschrictius robustus), and endangered humpback whales (Megaptera novaeangliae) had been submitted by the above-named applicant. The requested permit has been issued for the beluga whale and gray whale projects under the authority of the Marine Mammal Protection Act of 1972, as amended (16 U.S.C. 1361 et seq.), and the regulations governing the taking and importing of marine mammals (50 CFR part 216). A decision on the bowhead whale and humpback whale projects has been deferred pending completion of consultation under section 7 of the Endangered Species Act of 1973, as amended (ESA; 16 U.S.C. 1531 et seq.).

The permit is valid through May 31, 2015, for research activities including aerial surveys for beluga whales, capture of beluga whales for instrument attachment and sample collection, remote biopsy of beluga whales, and remote biopsy and instrument attachment for gray whales. Research may occur in waters of the Bering, Chukchi, and Beaufort Seas in Alaska to determine population abundance, stock structure, feeding areas and other important habitats, migration routes, behavior relative to human disturbance, and to genetically identify individuals to determine survival and calving intervals.

In compliance with the National Environmental Policy Act of 1969 (42 U.S.C. 4321 et seq.), a final determination has been made that the activity proposed is categorically excluded from the requirement to prepare an environmental assessment or environmental impact statement.

Dated: May 26, 2010.
P. Michael Payne,
Chief, Permits, Conservation and Education Division, Office of Protected Resources, National Marine Fisheries Service.

[FR Doc. 2010-13045 Filed 5-28-10; 8:45 am]

BILLING CODE 3510-22-S